DEPARTMENT OF HEALTH AND HUMAN SERVICES

National Institutes of Health

Center for Scientific Review Amended; Notice of Meeting

Notice is hereby given of a change in the meeting of the Cellular and Molecular Immunology—A Study Section, October 3, 2013, 08:00 p.m. to October 4, 2013, 05:00 p.m., Sir Francis Drake Hotel, 450 Powell Street at Sutter, San Francisco, CA 94102, which was published in the Federal Register on September 9, 2013, 78 FR 55087.

The meeting will be held at the National Institutes of Health, 6701 Rockledge Drive, Bethesda, MD 20892. The meeting will start on December 12, 2013 at 08:00 a.m. and end on December 13, 2013 at 05:00 p.m. The meeting is closed to the public.

Dated: October 29, 2013.
Melanie J. Gray,
Program Analyst, Office of Federal Advisory Committee Policy.

[FR Doc. 2013-26204 Filed 11-1-13; 8:45 am]

BILLING CODE 4140-01-P